DEPARTMENT OF HOMELAND SECURITY

Federal Emergency Management Agency

44 CFR Part 67

[Docket No. FEMA-B-7764]

Proposed Flood Elevation Determinations

AGENCY: Federal Emergency Management Agency, DHS.

ACTION: Proposed rule.

SUMMARY: Comments are requested on the proposed Base (1-percent-annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents and others to calculate appropriate flood insurance premium rates for new buildings and the contents in those buildings.

DATES: Comments are to be submitted on or before June 9, 2008.

ADDRESSES: The corresponding preliminary Flood Insurance Rate Map (FIRM) for the proposed BFEs for each community are available for inspection at the community's map repository. The respective addresses are listed in the table below.

You may submit comments, identified by Docket No. FEMA-B-7764, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151 or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

Administrative Procedure Act Statement. This matter is not a rulemaking governed by the Administrative Procedure Act (APA), 5 U.S.C. 553. FEMA publishes flood elevation determinations for notice and comment; however, they are governed by the Flood Disaster Protection Act of 1973, 42 U.S.C. 4105, and the National Flood Insurance Act of 1968, 42 U.S.C. 4001 et seq., and do not fall under the APA.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation** | * Elevation in feet (NGVD) + Elevation in feet (NAVD) # Depth in feet above ground ‸Elevation in meters (MSL): Effective | * Elevation in feet (NGVD) + Elevation in feet (NAVD) # Depth in feet above ground ‸Elevation in meters (MSL): Modified | Communities affected
Santa Clara County, California, and Incorporated Areas
San Tomas Aquino Creek | Approximately 20 feet downstream of Quito Road | None | +376 | City of Monte Sereno.
| Approximately 460 feet upstream of Quito Road | None | +439 |
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street SW., Washington, DC 20472.
ADDRESSES
City of Monte Sereno
Maps are available for inspection at City of Monte Sereno Engineering Department, 18041 Saratoga-Los Gatos Road, Monte Sereno, CA.
Solano County, California, and Incorporated Areas
Napa River | Approximately 115 feet east of the intersection of Murphy Lane and Tyler Road | +9 | +10 | City of Vallejo, Unincorporated Areas of Solano County.
Napa River | Approximately 820 feet northeast of the intersection of L Street and Railroad Avenue | None | +9 | City of Vallejo.
San Pablo Bay | Approximately 290 feet south of the intersection of Cedar Avenue and I Street | None | +10 | City of Vallejo.
| Approximately 0.4 mile west of the intersection of Lawes Street and Dump Road | None | +11 |
San Pablo Bay | Approximately 0.4 mile south of the intersection of Mesa Road and 13th Street | None | +12 | City of Vallejo, Unincorporated Areas of Solano County.
| Approximately 0.5 mile west of the intersection of Lawes Street and Dump Road | None | +13
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street SW., Washington, DC 20472.
ADDRESSES
City of Vallejo
Maps are available for inspection at City of Vallejo Public Works Department, 555 Santa Clara Street, Vallejo, CA.
Unincorporated Areas of Solano County
Maps are available for inspection at Solano County Public Works Department, 675 Texas Street, Suite 5500, Fairfield, CA.
Jones County, Georgia, and Incorporated Areas
Ocmulgee River | Approximately 14,050 feet downstream of River North Boulevard | None | +316 | Unincorporated Areas of Jones County.
| Approximately 16,790 feet upstream of River North Boulevard | None | +332 |
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street SW., Washington, DC 20472.
ADDRESSES
Unincorporated Areas of Jones County
Maps are available for inspection at Zoning and Planning Department, P.O. Box 1359, 166 Industrial Boulevard, Gray, GA 31032-1359.
Walton County, Georgia, and Incorporated Areas
Alcovy River | Approximately 525 feet downstream of confluence of Cedar Creek Southeast | None | +782 | Unincorporated Areas of Walton County.
| Approximately 1,740 feet upstream of confluence of Cedar Creek Southeast | None | +784 |
Apalachee River | Approximately 2,600 feet downstream of upstream county boundary with Gwinnett County | None | +820 | Unincorporated Areas of Walton County.
| At upstream county boundary with Gwinnett County | None | +823 |
Bay Creek | Approximately 345 feet downstream of county boundary with Gwinnett County | None | +792 | Unincorporated Areas of Walton County.
| Approximately 670 feet upstream of county boundary with Gwinnett County | None | +796 |
Big Haynes Creek | At downstream county boundary with Rockdale County | None | +846 | Unincorporated Areas of Walton County.
| At upstream county boundary with Gwinnett County | None | +849 |
Brushy Fork Creek | Approximately 1,740 feet downstream of Centerville Rosebud Road | None | +862 | Unincorporated Areas of Walton County, City of Loganville.
| Approximately 2,550 feet upstream of Old Loganville Road | None | +906 |
Cedar Creek Southeast | At confluence with Alcovy River | None | +782 | Unincorporated Areas of Walton County.
| Approximately 2,840 feet upstream of confluence with Alcovy River | None | +796
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street SW., Washington, DC 20472.
ADDRESSES
City of Loganville
Maps are available for inspection at 4385 Pecan Street, Loganville, GA 30052.
Unincorporated Areas of Walton County
Maps are available for inspection at 303 South Hammond Drive, Suite 330, Monroe, GA 30655.
Canyon County, Idaho, and Incorporated Areas
Boise River | Approximately 2000 feet upstream of I-84 | +2361 | +2360 | City of Caldwell, City of Star, Unincorporated.
| At Canyon County/Ada County Boundary | +2454 | +2456 | Areas of Canyon County.
Indian Creek | Just upstream of Sewer Treatment Plant | +2354 | +2353 | City of Nampa, City of Caldwell.
| Just upstream of Canada Road | +2550 | +2556 | Unincorporated Areas of Canyon County.
Mason Creek | At confluence with Boise River | None | +2370 | City of Nampa, City of Caldwell.
| Just upstream of Lone Tree Lane/Ustick Road | None | +2450 | Unincorporated Areas of Canyon County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street SW., Washington, DC 20472.
ADDRESSES
City of Caldwell
Maps are available for inspection at 621 Cleveland Boulevard, 2nd Floor, Caldwell, ID 83605.
City of Nampa
Maps are available for inspection at 411 3rd Street South, Nampa, ID 83651.
City of Star
Maps are available for inspection at 10769 West State Street, Star, ID 83669.
Unincorporated Areas of Canyon County
Maps are available for inspection at 1115 Albany Street, Caldwell, ID 83605.
Accomack County, Virginia, and Incorporated Areas
Chesapeake Bay | Base Flood Elevation changes ranging from 4 to 6 feet have occurred along the northern, southern, eastern, and western perimeter, as well as interior areas of the island | +4 | +6 | Town of Tangier.
Occohannock Creek (Chesapeake Bay) | Aproximately Route 178 (Shields Bridge Road) | +4 | +8 | Town of Belle Haven.
| Approximately the northern community boundary for Belle Haven along Occohannock Creek | +4 | +8 |
Onancock Creek (Chesapeake Bay) | Base Flood Elevations have changed along the northern, central, & southern branches of Onancock Creek. Changes extend from the western confluence of these three branches to their eastern most extent within the community boundary of the Town of Onancock | +5 | +7 | Town of Onancock.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street SW., Washington, DC 20472.
ADDRESSES
Town of Belle Haven
Maps are available for inspection at P.O. Box 238, Belle Haven, VA 23306.
Town of Onancock
Maps are available for inspection at 15 North Street, Onancock, VA 23417.
Town of Tangier
Maps are available for inspection at 4301 Joshua Thomas Lane, Tangier, VA 23440.

(Catalog of Federal Domestic Assistance No. 97.022, “Flood Insurance.”)

Dated: February 20, 2008.
David I. Maurstad,
Federal Insurance Administrator of the National Flood Insurance Program, Department of Homeland Security, Federal Emergency Management Agency.

[FR Doc. E8-4723 Filed 3-7-08; 8:45 am]

BILLING CODE 9110-12-P